NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Nature McGinn, ACA Permit Officer, Office of Polar Programs, National Science Foundation, 2415 Eisenhower Avenue, Alexandria, VA 22314; 703-292-8030; email: ACApermits@nsf.gov.

SUPPLEMENTARY INFORMATION: On October 24, 2018, the National Science Foundation published a notice in the Federal Register of permit applications received. The permits were issued on December 3 and 21, 2018, respectively, to:

1. Mark Salvatore—Permit No. 2019-010

2. Zicheng Yu—Permit No. 2019-009

On November 27, 2018, the National Science Foundation published a notice in the Federal Register of a permit application received. The permit was issued on January 28, 2019 to:

1. Robin West, Seabourn Cruise Line, Ltd.—Permit No. 2019-015

On December 31, 2018, the National Science Foundation published a notice in the Federal Register of permit applications received. The permits were issued on February 6 and 15, 2019, respectively, to:

1. Michelle Shero—Permit No. 2019-014

2. Kim Bernard—Permit No. 2019-013

Erika N. Davis,
Program Specialist, Office of Polar Programs.

[FR Doc. 2019-03871 Filed 3-4-19; 8:45 am]

BILLING CODE 7555-01-P